DEPARTMENT OF COMMERCE

International Trade Administration

[A-570-139]

Certain Mobile Access Equipment and Subassemblies Thereof From the People's Republic of China: Antidumping Duty Order

AGENCY: Enforcement and Compliance, International Trade Administration, Department of Commerce.

SUMMARY: Based on affirmative final determinations by the Department of Commerce (Commerce) and the U.S. International Trade Commission (ITC), Commerce is issuing an antidumping duty (AD) order on certain mobile access equipment and subassemblies thereof (mobile access equipment) from the People's Republic of China (China).

DATES: Applicable April 14, 2022.

FOR FURTHER INFORMATION CONTACT: Andre Gziryan, AD/CVD Operations, Office I, Enforcement and Compliance, International Trade Administration, U.S. Department of Commerce, 1401 Constitution Avenue NW, Washington, DC 20230; telephone: (202) 482-2201.

SUPPLEMENTARY INFORMATION:

Background

On February 22, 2022, Commerce published in the Federal Register its affirmative final determination in the less-than-fair-value (LTFV) investigation of mobile access equipment from China.¹ On April 8, 2022, the ITC notified Commerce of its final determination, pursuant to section 735(d) of the Tariff Act of 1930, as amended (the Act), that an industry in the United States is threatened with material injury within the meaning of section 735(b)(1)(A)(i) of the Act by reason of LTFV imports of mobile access equipment from China.²

¹ See Certain Mobile Access Equipment and Subassemblies Thereof from the People's Republic of China: Final Affirmative Determination of Sales at Less Than Fair Value, 87 FR 9576 (February 22, 2022) (Final Determination).

² See ITC's Letter, “Notification of ITC Final Determination,” dated April 8, 2022.

Scope of the Order

The products covered by this order are mobile access equipment from China. For a complete description of the scope of this order, see the appendix to this notice.

Antidumping Duty Order

On April 8, 2022, in accordance with section 735(d) of the Act, the ITC notified Commerce of its final determination in this investigation, in which it found that an industry in the United States is threatened with material injury by reason of imports of mobile access equipment from China.³ Therefore, in accordance with section 735(c)(2) of the Act, Commerce is issuing this AD order. Because the ITC determined that imports of mobile access equipment from China are threatening material injury to a U.S. industry, unliquidated entries of such merchandise from China entered or withdrawn from warehouse for consumption, are subject to the assessment of antidumping duties.

³ Id.

Therefore, in accordance with section 736(a)(1) of the Act, Commerce will direct U.S. Customs and Border Protection (CBP) to assess, upon further instructions by Commerce, antidumping duties equal to the amount by which the normal value of the merchandise exceeds the export price (or constructed export price) of the merchandise, for all relevant entries of mobile access equipment from China.

Because the ITC's final determination is based on the threat of material injury, other than threat of material injury described in section 736(b)(1) of the Act, duties shall be assessed on subject merchandise entered, or withdrawn from warehouse, for consumption on or after the date of publication of the ITC's notice of final determination, pursuant to section 736(b)(2) of the Act. In addition, section 736(b)(2) of the Act requires CBP to release any bond or other security, and refund any cash deposit made of estimated antidumping duties posted since Commerce's preliminary antidumping duty determination.

Accordingly, Commerce will direct CBP to terminate the suspension of liquidation of entries of mobile access equipment from China entered, or withdrawn from warehouse, for consumption prior to the publication of the ITC final determination in the Federal Register. Commerce will also instruct CBP to refund any cash deposits made with respect to entries of mobile access equipment from China entered, or withdrawn from warehouse, for consumption on or after September 30, 2021, the date of publication of the Preliminary Determination in the Federal Register.⁴

⁴ See Certain Mobile Access Equipment and Subassemblies Thereof from the People's Republic of China: Preliminary Affirmative Determination of Sales at Less Than Fair Value, Postponement of Final Determination, and Extension of Provisional Measures, 86 FR 54164 (September 30, 2021) (Preliminary Determination). However, we note that the extended provisional measures period expired on March 28, 2022, as such, effective March 29, 2022, we discontinued suspension of liquidation in accordance with section 733(d) of the Act.

Suspension of Liquidation

Commerce will instruct CBP to reinstitute the suspension of liquidation of mobile access equipment from China, effective the date of publication of the ITC's final determination in the Federal Register, and to assess, upon further instruction by Commerce, pursuant to section 736(a)(1) of the Act, antidumping duties for each entry of the subject merchandise equal to the amount by which the normal value of the merchandise exceeds the export price (or constructed export price) of the merchandise. These instructions suspending liquidation will remain in effect until further notice.

Commerce also intends to instruct CBP to require cash deposits equal to the amount as indicated in the tables below. Accordingly, effective on the date of publication in the Federal Register of the notice of the ITC's final affirmative injury determination, CBP will require, at the same time as importers would normally deposit estimated duties on subject merchandise, a cash deposit equal to the rates listed below.⁵ The rate for the China-wide entity applies to all exporters not specifically listed. For the purpose of determining cash deposit rates, the estimated weighted-average dumping margins for imports of subject merchandise from China have been adjusted, as appropriate, for export-contingent subsidies calculated based on the final determination of the companion countervailing duty investigation of mobile access equipment from China.⁶

⁵ See section 736(a)(3) of the Act.

⁶ See Final Determination, 87 FR at 9576; see also See Certain Mobile Access Equipment and Subassemblies Thereof from the People's Republic of China: Countervailing Duty Order and Amended Final Affirmative Countervailing Duty Determination, 86 FR 70439 (December 10, 2021).

Estimated Weighted-Average Dumping Margins

The estimated weighted-average dumping margins are as follows:

Exporter | Producer | Estimated weighted- average dumping margin (percent) | Cash deposit rate (adjusted for subsidy offsets) (percent)
Lingong Group Jinan Heavy Machinery Co., Ltd | Lingong Group Jinan Heavy Machinery Co., Ltd | 165.30 | 165.10
Zhejiang Dingli Machinery Co., Ltd | Zhejiang Dingli Machinery Co., Ltd | 31.70 | 31.54

Separate Rate Applicable to the Following Non-Selected Companies
Non-selected exporter receiving a separate rate | Producer supplying the non-selected exporter receiving a separate rate | Estimated weighted- average dumping margin (percent) | Cash deposit rate (adjusted for subsidy offsets) (percent)
Hunan Sinoboom Intelligent Equipment Co., Ltd | Hunan Sinoboom Intelligent Equipment Co., Ltd | 51.83 | 51.66
Mantall Heavy Industry Co., Ltd | Mantall Heavy Industry Co., Ltd | 51.83 | 51.66
Noblelift Intelligent Equipment Co., Ltd | Noblelift Intelligent Equipment Co., Ltd | 51.83 | 51.66
Oshkosh JLG (Tianjin) Equipment Technology Co., Ltd | Noblelift Intelligent Equipment Co., Ltd | 51.83 | 51.66
Sany Marine Heavy Industry Co., Ltd | Sany Marine Heavy Industry Co., Ltd | 51.83 | 51.66
Terex (Changzhou) Machinery Co., Ltd | Terex (Changzhou) Machinery Co, Ltd | 51.83 | 51.66
Xuzhou Construction Machinery Group Imp. & Exp. Co., Ltd | Xuzhou Construction Machinery Group Fire-Fighting Safety Equipment Co., Ltd | 51.83 | 51.66
China-Wide Entity |  | 165.30 | 165.14

Establishment of the Annual Inquiry Service Lists

On September 20, 2021, Commerce published the final rule titled “Regulations to Improve Administration and Enforcement of Antidumping and Countervailing Duty Laws” in the Federal Register.⁷ On September 27, 2021, Commerce also published the notice titled “Scope Ruling Application; Annual Inquiry Service List; and Informational Sessions” in the Federal Register.⁸ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁹

⁷ See Regulations to Improve Administration and Enforcement of Antidumping and Countervailing Duty Laws, 86 FR 52300 (September 20, 2021) (Final Rule).

⁸ See Scope Ruling Application; Annual Inquiry Service List; and Informational Sessions, 86 FR 53205 (September 27, 2021) (Procedural Guidance).

⁹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ¹⁰

¹⁰ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the opportunity notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioner and the Government of China

In the Final Rule, Commerce stated that, “after an initial request and placement on the annual inquiry service list, both petitioners and foreign governments will automatically be placed on the annual inquiry service list in the years that follow.” ¹¹ Accordingly, as stated above, the petitioner and the Government of China should submit their initial entry of appearance after publication of this notice in order to appear in the first annual inquiry service list. Pursuant to 19 CFR 351.225(n)(3), the petitioner and the Government of China will not need to resubmit their entry of appearance each year to continue to be included on the annual inquiry service list. However, the petitioner and the Government of China are responsible for making amendments to their entry of appearance during the annual update to the annual inquiry service list in accordance with the procedures described above.

¹¹ See Final Rule, 86 FR 52335.

Notification to Interested Parties

This notice constitutes the AD order with respect to mobile access equipment from China pursuant to section 736(a) of the Act. Interested parties can find a list of AD orders currently in effect at https://enforcement.trade.gov/stats/iastats1.html.

This AD order is issued and published in accordance with section 736(a) of the Act and 19 CFR 351.211(b).

Dated: April 8, 2022.
Lisa W. Wang,
Assistant Secretary for Enforcement and Compliance.

Appendix

Scope of the Order

The merchandise covered by this order consists of certain mobile access equipment, which consists primarily of boom lifts, scissor lifts, and material telehandlers, and subassemblies thereof. Mobile access equipment combines a mobile (self-propelled or towed) chassis, with a lifting device (e.g., scissor arms, boom assemblies) for mechanically lifting persons, tools and/or materials capable of reaching a working height of ten feet or more, and a coupler that provides an attachment point for the lifting device, in addition to other components. The scope of this order covers mobile access equipment and subassemblies thereof whether finished or unfinished, whether assembled or unassembled, and whether the equipment contains any additional features that provide for functions beyond the primary lifting function.

Subject merchandise includes, but is not limited to, the following subassemblies:

• Scissor arm assemblies, or scissor arm sections, for connection to chassis and platform assemblies. These assemblies include: (1) Pin assemblies that connect sections to form scissor arm assemblies, and (2) actuators that power the arm assemblies to extend and retract. These assemblies may or may not also include blocks that allow sliding of end sections in relation to frame and platform, hydraulic hoses, electrical cables, and/or other components;

• boom assemblies, or boom sections, for connection to the boom turntable, or to the chassis assembly, or to a platform assembly or to a lifting device. Boom assemblies include telescoping sections where the smallest section (or tube) can be nested in the next larger section (or tube) and can slide out for extension and/or articulated sections joined by pins. These assemblies may or may not include pins, hydraulic cylinders, hydraulic hoses, electrical cables, and/or other components;

• chassis assemblies, for connection to scissor arm assemblies, or to boom assemblies, or to boom turntable assemblies. Chassis assemblies include: (1) Chassis frames, and/or (2) frame sections. Chassis assemblies may or may not include axles, wheel end components, steering cylinders, engine assembly, transmission, drive shafts, tires and wheels, crawler tracks and wheels, fuel tank, hydraulic oil tanks, battery assemblies, and/or other components;

• boom turntable assemblies, for connection to chassis assemblies, or to boom assemblies. Boom turntable assemblies include turntable frames. Boom turntable assemblies may or may not include engine assembly, slewing rings, fuel tank, hydraulic oil tank, battery assemblies, counterweights, hoods (enclosures), and/or other components.

Importation of any of these subassemblies, whether assembled or unassembled, constitutes unfinished mobile access equipment for purposes of this order.

Processing of finished and unfinished mobile access equipment and subassemblies such as trimming, cutting, grinding, notching, punching, slitting, drilling, welding, joining, bolting, bending, beveling, riveting, minor fabrication, galvanizing, painting, coating, finishing, assembly, or any other processing either in the country of manufacture of the in-scope product or in a third country does not remove the product from the scope. Inclusion of other components not identified as comprising the finished or unfinished mobile access equipment does not remove the product from the scope.

The scope excludes forklifts, vertical mast lifts, mobile self-propelled cranes and motor vehicles that incorporate a scissor arm assembly or boom assembly. Forklifts are material handling vehicles with a working attachment, usually a fork, lifted along a vertical guide rail with the operator seated or standing on the chassis behind the vertical mast. Vertical mast lifts are person and material lifting vehicles with a working attachment, usually a platform, lifted along a vertical guide rail with an operator standing on the platform. Mobile self-propelled cranes are material handling vehicles with a boom attachment for lifting loads of tools or materials that are suspended on ropes, cables, and/or chains, and which contain winches mounted on or near the base of the boom with ropes, cables, and/or chains managed along the boom structure. The scope also excludes motor vehicles (defined as a vehicle driven or drawn by mechanical power and manufactured primarily for use on public streets, roads, and highways, but does not include a vehicle operated only on a rail line pursuant to 49 U.S.C. 30102(a)(7)) that incorporate a scissor arm assembly or boom assembly. The scope further excludes vehicles driven or drawn by mechanical power operated only on a rail line that incorporate a scissor arm assembly or boom assembly. The scope also excludes: (1) Rail line vehicles, defined as vehicles with hi-rail gear or track wheels, and a fixed (non-telescopic) main boom, which perform operations on rail lines, such as laying rails, setting ties, or other rail maintenance jobs; and (2) certain rail line vehicle subassemblies, defined as chassis subassemblies and boom turntable subassemblies for rail line vehicles with a fixed (non-telescopic) main boom.

Certain mobile access equipment subject to this order is typically classifiable under subheadings 8427.10.8020, 8427.10.8030, 8427.10.8070, 8427.10.8095, 8427.20.8020, 8427.20.8090, 8427.90.0020 and 8427.90.0090 of the Harmonized Tariff Schedule of the United States (HTSUS). Parts of certain mobile access equipment are typically classifiable under subheading 8431.20.0000 of the HTSUS. While the HTSUS subheadings are provided for convenience and customs purposes only, the written description of the merchandise under order is dispositive.

[FR Doc. 2022-08014 Filed 4-13-22; 8:45 am]

BILLING CODE 3510-DS-P